DEPARTMENT OF THE TREASURY

Community Development Financial Institutions Fund

CDFI Fund Native American Initiative

AGENCY: Community Development Financial Institutions Fund, Department of the Treasury.

ACTION: Preamble for the CDFI Fund's Native American Initiative, which includes: The Native American CDFI Assistance (NACA) Program; the Native American Technical Assistance (NATA) Component (part of the Technical Assistance Component) of the CDFI Program; and the Native American CDFI Development (NACD) Program.

SUMMARY:

I. Legislative Background

The Community Development Banking and Financial Institutions Act of 1994 (12 U.S.C. 4701 et seq.) (the “Act”) authorizes the Community Development Financial Institutions Fund (the “Fund”) of the U.S. Department of the Treasury to promote economic revitalization and community development through investment in and assistance to Fund-certified community development financial institutions (“CDFIs”) through the CDFI Program. The Consolidated Appropriations Resolution, 2003 (Pub. L. 108-7) authorizes the Fund to provide financial assistance (“FA”) and technical assistance (“TA”) to benefit Native American, Alaska Native and Native Hawaiian communities (hereafter referred to as “Native American Communities”), with such benefit being provided primarily through qualified community development lender organizations with experience and expertise in community development banking and lending in Indian country, Native American organizations, Tribes and tribal organizations and other suitable providers.

II. The CDFI Fund's Overall Strategic Objectives

Credit and investment capital are essential ingredients for developing affordable housing, starting or expanding businesses, meeting unmet market needs, and stimulating economic growth. Access to financial services is critical to helping bring more Americans into the economic mainstream. The Fund's programs are designed to address the unique capitalization and/or technical capacity needs of CDFIs and other community development entities so that they may better meet the needs of their particular target markets through loans, investments, financial services and other related activities. This strategy builds strong institutions that make loans and investments and provide financial services in markets (including economically distressed investment areas and disadvantaged targeted populations) whose needs for loans, investments, and financial services have not been fully met by traditional financial institutions.

III. The CDFI Fund's Native American Initiative

Pursuant to the Act, in 2001, the Fund completed and published the Native American Lending Study (“the Study”), which identifies significant barriers to lending and investment in Native American Communities throughout the country and strategies for overcoming those barriers. One of the barriers identified by the Study is the fact that there are few CDFIs and other financial institutions that serve Native American Communities. Since CDFIs are important tools for developing self-sustaining economies in many underserved communities, the Fund seeks to assist Native American Communities to create CDFIs as well as to strengthen CDFIs already serving those communities.

The Fund seeks to accomplish these goals through its Native American Initiative. The primary objective of the Native American Initiative is to increase the market coverage and capacity of Native American CDFIs throughout the country. While the Fund also is undertaking other activities, such as its comprehensive training program, to further strengthen Native American CDFIs, the Native American Initiative principally comprises three facets:

(1) Native American CDFI Assistance (NACA) Program: Through the NACA Program, the Fund provides (i) FA and/or TA awards to Native American CDFIs and entities that can be certified as Native American CDFIs at time of award; and (ii) TA awards to entities that propose to become Native American CDFIs within two years and “Sponsoring Entities” (e.g., Native American organizations, Tribes, Tribal organizations) that propose to create separate legal entities that will become Native American CDFIs within two years. A NOFA covering two annual funding rounds for the NACA Program is published in this issue of the Federal Register, subject to funding availability and Fiscal Year 2004 and Fiscal Year 2005 appropriations. Interested parties may obtain additional and detailed information on the NACA Program, including application materials, through the Fund's website at www.cdfifund.gov. Summary information on the NACA Program is provided in the chart, below.

(2) Native American Technical Assistance (NATA) Component (part of the Technical Assistance Component of the CDFI Program): Through the NATA Component, the Fund provides capacity-building TA grants to Native American CDFIs, entities that can be certified as Native American CDFIs at time of award, and entities that propose to become Native American CDFIs within two years. The FY 2003 and 2004 NOFA for the NATA Component/Technical Assistance Component was published in the February 4, 2003 issue of the Federal Register (68 FR 5735). The Fund is accepting applications on a rolling basis (subject to funding availability) through May 31, 2004. Interested parties may obtain additional and detailed information on the NATA Component, including application materials, through the Fund's website at www.cdfifund.gov. Summary information on the NATA Component is provided in the chart, below.

(3) Native American Community Development (NACD) Program: Through the NACD Program, the Fund provides TA grants to Sponsoring Entities to facilitate the creation of separate legal entities that will become Native American CDFIs within two years. The FY 2003 and 2004 NOFA for the NACD Program was published in the February 4, 2003 issue of the Federal Register (68 FR 5731). The Fund is accepting applications on a rolling basis (subject to funding availability) through May 31, 2004. Interested parties may obtain additional and detailed information on the NACD Program, including application materials, through the Fund's website at www.cdfifund.gov. Summary information on the NACD Program is provided in the chart, below.

Component or program | Purpose; types and amounts of assistance available | Eligible applicants | Application deadlines
Native American CDFI Assistance Program | FA awards (grants, loans, equity investments, secondary capital accounts, deposits, credit union shares) to support financing needs, and/or TA grants to build capacity to serve target markets, including operating grants; up to $500,000 per award Eligible Uses of TA Funds: technology acquisition, training, consulting services, staff salary for certain purposes, and operating funds | FA/TA awards. Type 1: certified Native American CDFIs or certifiable Native American CDFIs (i.e., entities that can be certified as Native American CDFIs at time of award) TA awards only. Type 2: emerging Native American CDFIs (i.e., entities that propose to become Native American CDFIs withing two years of receiving the award); and Type 3: Sponsoring Entities (e.g., Native American organizations, Tribes and Tribal organizations) that propose to create an entity that will become a Native American CDFI within two years of receiving the award Ineligible Applicants: Firms that provide training or TA in community developments finance (such organizations are eligible to apply through NACD) | Applications will be accepted and evaluated in two rounds: Round 1: application deadline is March 15, 2004; Round 2: application deadline is January 30, 2005 (subject to FY 2004 funding availability).
NATA Component | TA grants to build capacity to serve target markets; up to $100,000 per award Eligible Uses of TA Funds: technology acquisition, training, consulting services, staff salary for certain purposes Ineligible Uses of TA Funds: operating funds | Certified Native American CDFIs, certifiable Native American CDFIs (i.e., entities that can be certified as Native American CDFIs at time of award), emerging Native American CDFIs (i.e., entities that propose to become Native American CDFIs within two years of receiving the award) Ineligible Applicants: Sponsoring Entities (as described under NACD below), and entities that the Fund has previously selected to receive over $250,000 in TA or FA (in aggregate) | Applications will be accepted and elevated on a first-come, first reviewed basis, beginning February 4, 2003 through May 31, 2003 (subject to FY 2004 funding availability).
NACD Program | TA grants to build capacity to create Native American CDFIs; up to $100,000 per award The applying entity must use the TA award to assist in the establishment of a separately incorporated, new Native American CDFI Eligible Uses of TA Funds: technology acquisition, training, consulting services, staff salary for certain purposes Ineligible Use of TA Funds: operating funds | Sponsoring Entities that will not themselves become Native American CDFIs but instead plan to create separate Native American CDFIs Such entities include (a) Category I: Tribes, Tribal entities and nonprofit organizations that primarily serve Native American, Alaska Native and/or Native Hawaiian populations; and (b) Category II: firms that provide training or TA in community development finance or that specialize in economic development in Native American, Alaska Native and/or Native Hawaiian communities, and other suitable providers, including CDC, certified CDFIs, or organizations with experience and expertise in banking and lending in Native American, Alaska Native and/or Native Hawaiian communities Ineligible Applicants: certified Native American CDFIs, certifiable Native American CDFIs (i.e., entities that can be certified as Native American CDFIs at time of award, emerging Native American CDFIs (i.e., entities that propose to become Native American CDFIs within two years of receiving the award)

In addition to the Native American Initiative, described above, the Fund administers the New Markets Tax Credit (“NMTC”) Program, the Financial Assistance Component and the Technical Assistance Component of the CDFI Program, and the Bank Enterprise Award Program. Interested parties are encouraged to learn more about these programs, and how to apply, through the Fund's website at www.cdfifund.gov.

A Native American CDFI may apply for a FA award through either the FA Component or the NACA Program. While an applicant may receive only one FA award through either the FA Component or the NACA Program, an applicant, its subsidiaries or affiliates may apply for and receive: (i) A tax credit allocation through the NMTC Program; (ii) a TA award through the CDFI Program; (iii) an award through the NACD Program; or (iv) an award through the BEA Program, subject to certain restrictions described in the BEA Program regulations.

Catalog of Federal Domestic Assistance: 21.020

Authority: 12 U.S.C. 4703, 4703 note, 4704, 4706, 4707, 4717; 12 CFR part 1805, Pub. L. 107-73, Pub. L. 108-7.

Dated: November 21, 2003.
Tony T. Brown,
Director, Community Development Financial Institutions Fund.

[FR Doc. 03-30174 Filed 12-3-03; 8:45 am]

BILLING CODE 4810-70-P